DEPARTMENT OF HEALTH AND HUMAN SERVICES

Administration for Children and Families

Submission for OMB Review; Comment Request

Title: Federal Tax Offset, Administrative Offset, and Passport Denial Programs.

OMB No.: 0970-0161.

Description: The Tax Refund Offset and Administrative Offset Program collects past-due child support by intercepting certain Federal payments, including Federal Tax refunds of parents who have been ordered to pay child support and are behind in paying the debt. The program is a cooperative effort including the Department of Treasury's financial Management Service (FMS), the Federal Office of Child Support Enforcement (OCSE) and State Child Support Enforcement (CSE) agencies. The Passport Denial program reports noncustodial parents who owe arrears above a threshold to Department of State (DOS), which will then deny passports to these individuals. On an ongoing basis, CSE agencies submit to OCSE the names, Social Security Numbers (SSNs) and the amount(s) of past due child support of people who are delinquent in making child support payments.

Respondent: Annual Burden Estimates.

Instrument | Number of respondents | Number of responses per respondent | Average burden hours per response | Total burden hours
Input Record | 54 | 52 | .3 | 842.4
Output Record | 54 | 52 | .46 | 1,292.0
Payment File | 54 | 26 | .27 | 379.0
Certification Letter | 54 | 1 | .4 | 21.6
Estimated Total Annual Burden Hours |  |  |  | 2,535

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: January 18, 2001.
Bob Sargis,
Reports Clearance Officer.

[FR Doc. 01-2157 Filed 1-23-01; 8:45 am]

BILLING CODE 4184-01-M